DEPARTMENT OF TRANSPORTATION

Federal Aviation Administration

14 CFR Part 39

[Docket No. FAA-2021-0099; Project Identifier AD-2020-01272-T; Amendment 39-21757; AD 2021-20-19]

RIN 2120-AA64

Airworthiness Directives; The Boeing Company Airplanes

AGENCY: Federal Aviation Administration (FAA), DOT.

ACTION: Final rule.

SUMMARY: The FAA is adopting a new airworthiness directive (AD) for certain The Boeing Company Model 767-200, -300, -300F, and -400ER series airplanes. This AD was prompted by significant changes made to the airworthiness limitations (AWLs) related to fuel tank ignition prevention and the nitrogen generation system. This AD requires revising the existing maintenance or inspection program, as applicable, to incorporate the latest revision of the AWLs. The FAA is issuing this AD to address the unsafe condition on these products.

DATES: This AD is effective November 30, 2021.

The Director of the Federal Register approved the incorporation by reference of a certain publication listed in this AD as of November 30, 2021.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-0099.

Examining the AD Docket

You may examine the AD docket at https://www.regulations.gov by searching for and locating Docket No. FAA-2021-0099; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Douglas Mansell, Aerospace Engineer, Propulsion Section, FAA, Seattle ACO Branch, 2200 South 216th St., Des Moines, WA 98198; phone and fax: 206-231-3875; email: douglas.e.mansell@faa.gov.

SUPPLEMENTARY INFORMATION:

Background

The FAA issued a notice of proposed rulemaking (NPRM) to amend 14 CFR part 39 by adding an AD that would apply to certain The Boeing Company Model 767-200, -300, -300F, and -400ER series airplanes. The NPRM published in the Federal Register on February 26, 2021 (86 FR 11653). The NPRM was prompted by significant changes made to the airworthiness limitations (AWLs) related to fuel tank ignition prevention and the nitrogen generation system. In the NPRM, the FAA proposed to require revising the existing maintenance or inspection program, as applicable, to incorporate the latest revision of the AWLs. The FAA is issuing this AD to address the potential for ignition sources inside fuel tanks caused by latent failures, alterations, repairs, or maintenance actions, which, in combination with flammable fuel vapors, could result in a fuel tank explosion and consequent loss of the airplane.

Discussion of Final Airworthiness Directive

Comments

The FAA received comments from The Air Line Pilots Association, International (ALPA), and an individual, both of whom supported the NPRM without change.

The FAA received additional comments from five commenters, including Aviation Partners Boeing (APB), Boeing, Japan Airlines (JAL), United Airlines (UAL), and United Parcel Service (UPS). The following presents the comments received on the NPRM and the FAA's response to each comment.

Effect of Winglets on Accomplishment of the Proposed Actions

APB stated that accomplishing Supplemental Type Certificate (STC) ST01920SE does not affect the actions specified in the NPRM.

The FAA agrees with the commenter that STC ST01920SE does not affect the accomplishment of the manufacturer's service instructions. Therefore, the installation of STC ST01920SE does not affect the ability to accomplish the actions required by this AD. The FAA has not changed this AD in this regard.

Request To Remove Certain “Unqualified” Items

Boeing requested that paragraphs (h)(1) and (2) of the proposed AD be deleted to remove unqualified wire types and wire sleeving from the list of acceptable wire types and sleeving. Boeing declared that it has qualified and certified wire types BMS 13-48, BMS 13-58, and BMS 13-60, as well as Teflon wire sleeving TFE-2X, but has not certified the additional types for Boeing airplanes.

The FAA does not agree to remove the paragraphs as requested. Since the issuance of AD 2008-11-01 R1, Amendment 39-16145 (74 FR 68515, December 28, 2009) (AD 2008-11-01 R1), which will be terminated by this AD, the FAA received numerous requests for approval of alternative methods of compliance (AMOCs) from operators and STC holders (or applicants) to allow the installation of the alternative wire types and sleeving identified in paragraphs (h)(1) and (2) of this AD. The FAA evaluated key attributes of those alternative wire types and sleeving for each installation, and issued numerous AMOC approvals based on the determination that installing those wire types and sleeving would provide an acceptable level of safety. Although paragraph (h) of this AD provides certain allowances, it does not provide approval of alternative wire types and sleeving that are installed as part of an aircraft design change. Each applicant for any design change is still responsible to show that the installation of alternative wire types and sleeving identified in paragraphs (h)(1) and (2) of this AD complies with all applicable regulatory requirements. This responsibility includes, but is not limited to, substantiation of compliance with flammability requirements, and substantiation that shows that sleeve installation, including the selection of sleeve thickness, is adequate to protect wires from chafing for the life of the installation. If such an installation is found to be compliant with all applicable regulatory requirements, revision of AWL No. 28-AWL-09 in accordance with paragraph (h) of this AD would allow the installation of the alternative wire types and sleeving. The FAA has not changed this AD with regard to this request.

Request To Exempt Certain Airplanes From Initial Compliance Times

UAL recommended that airplanes in long-term storage be exempted from the applicable initial compliance times, and that the ALI tasks be accomplished at the applicable initial compliance times after return to service. UAL stated that many of the affected airplanes are now in long-term storage.

The FAA does not agree to extend the compliance time to begin after return to service for airplanes in long-term storage. In developing an appropriate compliance time for the tasks required by this AD, the FAA considered relevant safety issues as well as Boeing's recommendations. The FAA concluded that the inspections must be completed as stated in revised paragraphs (g)(1) through (14) of this AD, although the FAA may consider requests for approval of AMOCs from operators with special circumstances. This AD has not been changed with regard to this request.

Request for Clarification of Initial Compliance Times

JAL requested clarification about whether the initial compliance time for airplanes with no initial inspections performed or with Boeing Service Bulletin 767-47-0001 incorporated is the ALI's threshold from airplane delivery or the accomplishment date of the service bulletin. JAL asserted that in similar FAA ADs or proposed ADs, the initial compliance time for airplanes with no inspections performed is the ALI's threshold from airplane delivery.

The FAA agrees with JAL's assertions, and has determined that never-inspected airplanes should be allowed the full compliance time (the applicable AWL interval) from airplane delivery. Furthermore, airplanes for which the referenced AWL was not previously included in the operator's maintenance/inspection program should be allowed a grace period if the AWL interval has passed.

For the foregoing reasons, the FAA has revised the compliance times for the initial tasks in paragraphs (g)(1) through (14) of this AD. While the revised paragraphs may appear significantly different from those in the proposed AD, the compliance times are the same as proposed for most operators—except for the extension of certain compliance times that will provide relief for some operators. The FAA's safety assessment indicates that these changes will provide an acceptable level of safety. The proposed AD has been changed in the following ways:

• The compliance times for each AWL are provided for two groups of airplanes, based on whether their maintenance program had previously included the specific AWL. The AWLs that are included in an operator's maintenance program depend on several factors, including the certification basis for the airplane and applicable regulations including airworthiness directives in effect when the airplane is produced and subsequent to airplane delivery. Therefore, some AWLs identified in paragraph (g) of this AD may not have previously been included in the existing maintenance program.

• For an AWL that was previously incorporated, the airplane, whether previously inspected or not, is provided the full compliance time. Although the proposed AD would have required inspecting never-inspected airplanes within the shorter grace period, the FAA had intended to provide the full interval specified in the AWL, starting from airplane delivery or from the last inspection.

• The FAA has revised the grace period from 30 days to 60 days in paragraphs (g)(2), (4), (6), (7), (9), (10), (11), and (12) of this AD. With this change, compliance for those specific tasks will not be required earlier than the compliance time to revise the maintenance program.

Request To Update Applicability

UPS requested an update to paragraph (c), “Applicability,” of the proposed AD to specify airplanes “as identified in” Boeing 767-200/300/300F/400ER Special Compliance Items/Airworthiness Limitations, D622T001-9-04, dated January 2020. UPS stated that the update is needed to clarify that each task within Boeing 767-200/300/300F/400ER Special Compliance Items/Airworthiness Limitations, D622T001-9-04, dated January 2020, is required only for the airplanes for which it is identified as applicable, and not for all airplanes having L/N 1 through 1200 inclusive regardless of the task applicability.

The FAA disagrees with the request. Each task in Boeing 767-200/300/300F/400ER Special Compliance Items/Airworthiness Limitations, D622T001-9-04, dated January 2020, is required only for specific airplanes, but paragraph (c), “Applicability,” of this AD must include every airplane that is subject to any requirement in the AD. This AD has not been changed with regard to this request.

Conclusion

The FAA reviewed the relevant data, considered any comments received, and determined that air safety requires adopting this AD as proposed. Except for minor editorial changes, and any other changes described previously, this AD is adopted as proposed in the NPRM. None of the changes will increase the economic burden on any operator.

Related Service Information Under 1 CFR Part 51

The FAA reviewed Boeing 767-200/300/300F/400ER Special Compliance Items/Airworthiness Limitations, D622T001-9-04, dated January 2020. This service information describes AWLs that include airworthiness limitation instructions (ALIs) and critical design configuration control limitations (CDCCLs) tasks related to fuel tank ignition prevention and the nitrogen generation system. This service information is reasonably available because the interested parties have access to it through their normal course of business or by the means identified in the ADDRESSES section.

Costs of Compliance

The FAA estimates that this AD affects 500 airplanes of U.S. registry. The FAA estimates the following costs to comply with this AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. Therefore, the FAA estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-20-19 The Boeing Company: Amendment 39-21757; Docket No. FAA-2021-0099; Project Identifier AD-2020-01272-T.

(a) Effective Date

This airworthiness directive (AD) is effective November 30, 2021.

(b) Affected ADs

This AD affects the ADs specified in paragraphs (b)(1) through (7) of this AD.

(1) AD 2008-11-01 R1, Amendment 39-16145 (74 FR 68515, December 28, 2009) (AD 2008-11-01 R1).

(2) AD 2010-06-10, Amendment 39-16234 (75 FR 15322, March 29, 2010) (AD 2010-06-10).

(3) AD 2011-25-05, Amendment 39-16881 (77 FR 2442, January 18, 2012) (AD 2011-25-05).

(4) AD 2013-25-02, Amendment 39-17698 (79 FR 24541, May 1, 2014) (AD 2013-25-02).

(5) AD 2014-08-09, Amendment 39-17833 (79 FR 24546, May 1, 2014) (AD 2014-08-09).

(6) AD 2014-20-02, Amendment 39-17975 (79 FR 59102, October 1, 2014) (AD 2014-20-02).

(7) AD 2018-20-13, Amendment 39-19447 (83 FR 52305, October 17, 2018) (AD 2018-20-13).

(c) Applicability

This AD applies to The Boeing Company Model 767-200, -300, -300F, and -400ER series airplanes, certificated in any category, having line numbers (L/N) 1 through 1200 inclusive.

(d) Subject

Air Transport Association (ATA) of America Code 28, Fuel.

(e) Unsafe Condition

This AD was prompted by significant changes made to the airworthiness limitations (AWLs) related to fuel tank ignition prevention and the nitrogen generation system. The FAA is issuing this AD to address the potential for ignition sources inside fuel tanks caused by latent failures, alterations, repairs, or maintenance actions, which, in combination with flammable fuel vapors, could result in a fuel tank explosion and consequent loss of the airplane.

(f) Compliance

Comply with this AD within the compliance times specified, unless already done.

(g) Maintenance or Inspection Program Revision

Within 60 days after the effective date of this AD, revise the existing maintenance or inspection program, as applicable, to incorporate the applicable information in Section A, including Subsections A.1, A.2, A.3, A.4, and A.5, of Boeing 767-200/300/300F/400ER Special Compliance Items/Airworthiness Limitations, D622T001-9-04, dated January 2020; except as provided by paragraph (h) of this AD. The initial compliance times for the airworthiness limitation instructions (ALI) tasks are within the applicable compliance times specified in paragraphs (g)(1) through (14) of this AD:

(1) For airplanes identified in the applicability for AWL No. 28-AWL-01, “External Wires Over Auxiliary (Center) Fuel Tank”: At the applicable time specified in paragraph (g)(1)(i) or (ii) of this AD.

(i) For airplanes that did not have any version of AWL No. 28-AWL-01 in their maintenance or inspection program before the effective date of this AD: Within 144 months since issuance of the original airworthiness certificate or original export certificate of airworthiness, or within 12 months after the effective date of this AD, whichever occurs later.

(ii) For airplanes not identified in paragraph (g)(1)(i) of this AD: Within 144 months since issuance of the original airworthiness certificate or original export certificate of airworthiness, or within 144 months after the most recent inspection, if any, was performed as specified in AWL No. 28-AWL-01; whichever occurs later.

(2) For airplanes identified in the applicability for AWL No. 28-AWL-05, “Lightning Protection—Hydraulic Line Fuel Tank Penetration Bonding Path”: At the applicable time specified in paragraph (g)(2)(i) or (ii) of this AD.

(i) For airplanes that did not have any version of AWL No. 28-AWL-05 in their maintenance or inspection program before the effective date of this AD: At the later of the times specified in paragraphs (g)(2)(i)(A) and (B) of this AD.

(A) Within 25,000 flight hours or 72 months, whichever occurs first since issuance of the original airworthiness certificate or original export certificate of airworthiness.

(B) Within 60 days after the effective date of this AD.

(ii) For airplanes not identified in paragraph (g)(2)(i) of this AD: At the later of the times specified in paragraphs (g)(2)(ii)(A) and (B) of this AD.

(A) Within 25,000 flight hours or 72 months, whichever occurs first since issuance of the original airworthiness certificate or original export certificate of airworthiness.

(B) Within 25,000 flight hours or 72 months, whichever occurs first after the most recent inspection, if any, was performed as specified in AWL No. 28-AWL-05.

(3) For airplanes identified in the applicability for AWL No. 28-AWL-18, “Fuel Quantity Indicating System (FQIS)—Out of Tank Wiring Lightning Shield to Ground Termination”: At the applicable time specified in paragraph (g)(3)(i) or (ii) of this AD.

(i) For airplanes that did not have any version of AWL No. 28-AWL-18 in their maintenance or inspection program before the effective date of this AD: Within 144 months since issuance of the original airworthiness certificate or original export certificate of airworthiness, or within 12 months after the effective date of this AD, whichever occurs later.

(ii) For airplanes not identified in paragraph (g)(3)(i) of this AD: Within 144 months since issuance of the original airworthiness certificate or original export certificate of airworthiness, or within 144 months after the most recent inspection, if any, was performed as specified in AWL No. 28-AWL-18; whichever occurs later.

(4) For airplanes identified in the applicability for AWL No. 28-AWL-20, “Auxiliary (Center) Tank Override Fuel Pumps Auto Shutoff Circuit”: At the applicable time specified in paragraph (g)(4)(i) or (ii) of this AD.

(i) For airplanes that did not have any version of AWL No. 28-AWL-20 in their maintenance or inspection program before the effective date of this AD: Within 12 months since issuance of the original airworthiness certificate or original export certificate of airworthiness, or within 60 days after the effective date of this AD, whichever occurs later.

(ii) For airplanes not identified in paragraph (g)(4)(i) of this AD: At the latest of the times specified in paragraphs (g)(4)(ii)(A) through (C) of this AD.

(A) Within 12 months since issuance of the original airworthiness certificate or original export certificate of airworthiness.

(B) Within 12 months after the most recent inspection, if any, was performed as specified in AWL No. 28-AWL-20.

(C) Within 12 months after accomplishment of the actions specified in Boeing Service Bulletin 767-28A0083 or Boeing Service Bulletin 767-28A0084, as applicable.

(5) For airplanes identified in the applicability for AWL No. 28-AWL-21, “AC and DC Fuel Pump Fault Current Bonding Jumper Installation”: At the applicable time specified in paragraph (g)(5)(i) or (ii) of this AD.

(i) For airplanes that did not have any version of AWL No. 28-AWL-21 in their maintenance or inspection program before the effective date of this AD: Within 72 months since issuance of the original airworthiness certificate or original export certificate of airworthiness, or within 6 months after the effective date of this AD, whichever occurs later.

(ii) For airplanes not identified in paragraph (g)(5)(i) of this AD: Within 72 months since issuance of the original airworthiness certificate or original export certificate of airworthiness, or within 72 months after the most recent inspection, if any, was performed as specified in AWL No. 28-AWL-21; whichever occurs later.

(6) For airplanes identified in the applicability for AWL No. 28-AWL-27, “Over-Current and Arcing Protection Electrical Design Features Operation—AC Fuel Pump Ground Fault Interrupter (GFI)”: At the applicable time specified in paragraph (g)(6)(i) or (ii) of this AD.

(i) For airplanes that did not have any version of AWL No. 28-AWL-27 in their maintenance or inspection program before the effective date of this AD: Within 12 months since issuance of the original airworthiness certificate or original export certificate of airworthiness, or within 60 days after the effective date of this AD, whichever occurs later.

(ii) For airplanes not identified in paragraph (g)(6)(i) of this AD: At the latest of the times specified in paragraphs (g)(6)(ii)(A) through (C) of this AD.

(A) Within 12 months since issuance of the original airworthiness certificate or original export certificate of airworthiness.

(B) Within 12 months after the most recent inspection, if any, was performed as specified in AWL No. 28-AWL-27.

(C) Within 12 months after accomplishment of the actions specified in Boeing Service Bulletin 767-28A0085.

(7) For airplanes identified in the applicability for AWL No. 28-AWL-28, “Auxiliary (Center) Tank Override/Jettison Fuel Pump Failed On Protection System”: At the applicable time specified in paragraph (g)(7)(i) or (ii) of this AD.

(i) For airplanes that did not have any version of AWL No. 28-AWL-28 in their maintenance or inspection program before the effective date of this AD: Within 12 months since issuance of the original airworthiness certificate or original export certificate of airworthiness, or within 60 days after the effective date of this AD, whichever occurs later.

(ii) For airplanes not identified in paragraph (g)(7)(i) of this AD: At the latest of the times specified in paragraphs (g)(7)(ii)(A) through (C) of this AD.

(A) Within 12 months since issuance of the original airworthiness certificate or original export certificate of airworthiness.

(B) Within 12 months after the most recent inspection, if any, was performed as specified in AWL No. 28-AWL-28.

(C) Within 12 months after accomplishment of the actions specified in Boeing Service Bulletin 767-28A0085.

(8) For airplanes identified in the applicability for AWL No. 28-AWL-35, “Cushion Clamps and Teflon Sleeving Installed on Out-of-Tank Wire Bundles Installed on Brackets that are Mounted Directly on the Fuel Tanks”: At the applicable time specified in paragraph (g)(8)(i) or (ii) of this AD.

(i) For airplanes that did not have any version of AWL No. 28-AWL-35 in their maintenance or inspection program before the effective date of this AD: Within 144 months since issuance of the original airworthiness certificate or original export certificate of airworthiness, or within 12 months after the effective date of this AD, whichever occurs later.

(ii) For airplanes not identified in paragraph (g)(8)(i) of this AD: At the latest of the times specified in paragraphs (g)(8)(ii)(A) through (C) of this AD.

(A) Within 144 months since issuance of the original airworthiness certificate or original export certificate of airworthiness.

(B) Within 144 months after the most recent inspection, if any, was performed as specified in AWL No. 28-AWL-35.

(C) Within 144 months after accomplishment of the actions specified in Boeing Service Bulletin 767-57A0102.

(9) For airplanes identified in the applicability for AWL No. 28-AWL-37, “FQIS BITE Test (Auxiliary (Center) Tank Circuit Test)”: At the applicable time specified in paragraph (g)(9)(i) or (ii) of this AD.

(i) For airplanes that did not have any version of AWL No. 28-AWL-37 in their maintenance or inspection program before the effective date of this AD: Within 750 flight hours since issuance of the original airworthiness certificate or original export certificate of airworthiness, or within 60 days after the effective date of this AD, whichever occurs later.

(ii) For airplanes not identified in paragraph (g)(9)(i) of this AD: Within 750 flight hours since issuance of the original airworthiness certificate or original export certificate of airworthiness, or within 750 flight hours after the most recent inspection, if any, was performed as specified in AWL No. 28-AWL-37; whichever occurs later.

(10) For airplanes identified in the applicability for AWL No. 28-AWL-38, “Fuel Level Sensing System (FLSS) Dry Capacitance Test”: At the applicable time specified in paragraph (g)(10)(i) or (ii) of this AD.

(i) For airplanes that did not have any version of AWL No. 28-AWL-38 in their maintenance or inspection program before the effective date of this AD: Within 750 flight hours since issuance of the original airworthiness certificate or original export certificate of airworthiness, or within 60 days after the effective date of this AD, whichever occurs later.

(ii) For airplanes not identified in paragraph (g)(10)(i) of this AD: Within 750 flight hours since issuance of the original airworthiness certificate or original export certificate of airworthiness, or within 750 flight hours after the most recent inspection, if any, was performed as specified in AWL No. 28-AWL-38; whichever occurs later.

(11) For airplanes identified in the applicability for AWL No. 28-AWL-101, “Engine Fuel Suction Feed Operational Test”: At the applicable time specified in paragraph (g)(11)(i) or (ii) of this AD.

(i) For airplanes that did not have any version of AWL No. 28-AWL-101 in their maintenance or inspection program before the effective date of this AD: At the later of the times specified in paragraphs (g)(11)(i)(A) and (B) of this AD.

(A) Within 7,500 flight hours or 36 months, whichever occurs first since issuance of the original airworthiness certificate or original export certificate of airworthiness.

(B) Within 60 days after the effective date of this AD.

(ii) For airplanes not identified in paragraph (g)(11)(i) of this AD: At the later of the times specified in paragraphs (g)(11)(ii)(A) and (B) of this AD.

(A) Within 7,500 flight hours or 36 months, whichever occurs first since issuance of the original airworthiness certificate or original export certificate of airworthiness.

(B) Within 7,500 flight hours or 36 months, whichever occurs first after the most recent inspection, if any, was performed as specified in AWL No. 28-AWL-101.

(12) For airplanes identified in the applicability for AWL No. 28-AWL-102, “Fuel Quantity Indicating System (FQIS)—Low Fuel and Fuel Config Indication Test”: At the applicable time specified in paragraph (g)(12)(i) or (ii) of this AD.

(i) For airplanes that did not have any version of AWL No. 28-AWL-102 in their maintenance or inspection program before the effective date of this AD: Within 750 flight hours since issuance of the original airworthiness certificate or original export certificate of airworthiness; or within 60 days after the effective date of this AD, whichever occurs later.

(ii) For airplanes not identified in paragraph (g)(12)(i) of this AD: At the latest of the times specified in paragraphs (g)(12)(ii)(A) through (C) of this AD.

(A) Within 750 flight hours since issuance of the original airworthiness certificate or original export certificate of airworthiness.

(B) Within 750 flight hours after the most recent inspection, if any, was performed as specified in AWL No. 28-AWL-102.

(C) Within 750 flight hours after accomplishment of the actions specified in Boeing Service Bulletin 767-31-0295 or Boeing Service Bulletin 767-31-0302, as applicable.

(13) For airplanes identified in the applicability for AWL No. 47-AWL-04, “Nitrogen Generation System (NGS)—Nitrogen-Enriched Air (NEA) Distribution Ducting”: At the applicable time specified in paragraph (g)(13)(i) or (ii) of this AD.

(i) For airplanes that did not have any version of AWL No. 47-AWL-04 in their maintenance or inspection program before the effective date of this AD: Within the applicable interval specified in AWL No. 47-AWL-04 since issuance of the original airworthiness certificate or original export certificate of airworthiness, or within 4 months after the effective date of this AD, whichever occurs later.

(ii) For airplanes not identified in paragraph (g)(13)(i) of this AD: Within the applicable interval specified in AWL No. 47-AWL-04 since issuance of the original airworthiness certificate or original export certificate of airworthiness, or within that applicable interval since the most recent inspection, if any, was performed as specified in AWL No. 47-AWL-04; whichever occurs later.

(14) For airplanes identified in the applicability for AWL No. 47-AWL-05, “Nitrogen Generation System (NGS)—Cross Vent Check Valve”: At the applicable time specified in paragraph (g)(14)(i) or (ii) of this AD.

(i) For airplanes that did not have any version of AWL No. 47-AWL-05 in their maintenance or inspection program before the effective date of this AD: Within the applicable interval specified in AWL No. 47-AWL-05 since issuance of the original airworthiness certificate or original export certificate of airworthiness, or within 4 months after the effective date of this AD, whichever occurs later.

(ii) For airplanes not identified in paragraph (g)(14)(i) of this AD: Within the applicable interval specified in AWL No. 47-AWL-05 since issuance of the original airworthiness certificate or original export certificate of airworthiness, or within that applicable interval since the most recent inspection, if any, was performed as specified in AWL No. 47-AWL-05; whichever occurs later.

(h) Additional Acceptable Wire Types and Sleeving

As an option, during accomplishment of the actions required by paragraph (g) of this AD, the changes specified in paragraphs (h)(1) and (2) of this AD are acceptable.

(1) Where AWL No. 28-AWL-09 identifies wire types BMS 13-48, BMS 13-58, and BMS 13-60, the following acceptable wire types and cables can be added to AWL No. 28-AWL-09: MIL-W-22759/16, SAE AS22759/16 (formerly M22759/16), MIL-W-22759/32, SAE AS22759/32 (formerly M22759/32), MIL-W-22759/34, SAE AS22759/34 (formerly M22759/34), MIL-W-22759/41, SAE AS22759/41 (formerly M22759/41), MIL-W-22759/86, SAE AS22759/86 (formerly M22759/86), MIL-W-22759/87, SAE AS22759/87 (formerly M22759/87), MIL-W-22759/92, and SAE AS22759/92 (formerly M22759/92); and MIL-C-27500 and NEMA WC 27500 cables that are constructed from these military or SAE specification wire types, as applicable.

(2) Where AWL No. 28-AWL-09 identifies TFE-2X Standard wall for wire sleeving, the following sleeving materials are acceptable: Roundit 2000NX and Varglas Type HO, HP, or HM, Grade A.

(i) No Alternative Actions, Intervals, or Critical Design Configuration Control Limitations (CDCCLs)

After the existing maintenance or inspection program has been revised as required by paragraph (g) of this AD, no alternative actions (e.g., inspections), intervals, or CDCCLs may be used unless the actions, intervals, and CDCCLs are approved as an alternative method of compliance (AMOC) in accordance with the procedures specified in paragraph (k) of this AD.

(j) Terminating Action for Certain AD Requirements

Accomplishment of the revision required by paragraph (g) of this AD terminates the requirements specified in paragraphs (j)(1) through (7) of this AD for that airplane:

(1) The revision required by paragraphs (g) and (h) of AD 2008-11-01 R1.

(2) The revision required by paragraph (h) of AD 2010-06-10.

(3) The revision required by paragraph (k) of AD 2011-25-05.

(4) The revision required by paragraph (n) of AD 2013-25-02.

(5) The revision required by paragraph (g) of AD 2014-08-09.

(6) The revision required by paragraph (h) of AD 2014-20-02.

(7) The revision required by paragraphs (i)(3)(i) and (ii) of AD 2018-20-13.

(k) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(l) Related Information

For more information about this AD, contact Douglas Mansell, Aerospace Engineer, Propulsion Section, FAA, Seattle ACO Branch, 2200 South 216th St., Des Moines, WA 98198; phone and fax: 206-231-3875; email: douglas.e.mansell@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing 767-200/300/300F/400ER Special Compliance Items/Airworthiness Limitations, D622T001-9-04, dated January 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: https://www.archives.gov/federal-register/cfr/ibr-locations.html.

Issued on September 23, 2021.
Lance T. Gant,
Director, Compliance & Airworthiness Division, Aircraft Certification Service.

[FR Doc. 2021-23268 Filed 10-25-21; 8:45 am]

BILLING CODE 4910-13-P